DEPARTMENT OF LABOR

Office of the Secretary

Agency Information Collection Activities; Submission for OMB Review; Comment Request; DOL Generic Solution for Solicitations for Grant Applications

ACTION: Notice.

SUMMARY: The Department of Labor (DOL) is submitting the information collection request (ICR) titled, “DOL Generic Solution for Solicitations for Grant Applications,” to the Office of Management and Budget (OMB) for review and approval for continued use in accordance with the Paperwork Reduction Act (PRA) of 1995 (44 U.S.C. 3501 et seq.).

DATES: Submit comments on or before December 27, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-Departmental Management, Office of Management and Budget, Room 10235, 725 17th Street, NW., Washington, DC 20503, Fax: 202-395-6881 (this is not a toll-free number), email: OIRA_submission@omb.eop.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: The DOL periodically solicits grant applications by issuing a Solicitation for Grant Applications (SGA). To ensure grants are awarded to the applicant(s) best suited to perform the functions of the grant, applicants are generally required to submit a two-part application. The first part of DOL grant applications consists of submitting Standard Form 424, Application for Federal Assistance, which is approved by the OMB under Control Number 4040-0004. The second part of a grant application usually requires a technical proposal demonstrating the applicant's capabilities, in accordance with a statement of work and/or selection criteria. This ICR is a generic solution for SGAs that extend information collection requirements beyond what is collected on currently approved standard forms.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. The DOL obtains OMB approval for this information collection under Control Number 1225-0086. The current approval is scheduled to expire on November 30, 2012; however, it should be noted that existing information collection requirements submitted to the OMB receive a month-to-month extension while they undergo review. For additional information, see the related notice published in the Federal Register on November 10, 2012 (77 FR 55505).

Interested parties are encouraged to send comments to the OMB, Office of Information and Regulatory Affairs at the address shown in the ADDRESSES section within 30 days of publication of this notice in the Federal Register. In order to help ensure appropriate consideration, comments should mention OMB Control Number 1225-0086. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-Departmental Management.

Title of Collection: DOL Generic Solution for Solicitations for Grant Applications.

OMB Control Number: 1225-0086.

Affected Public: Private Sector—not-for-profit institutions—and State, Local, and Tribal Governments.

Total Estimated Number of Respondents: 7,500.

Total Estimated Number of Responses: 7,500.

Total Estimated Annual Burden Hours: 187,500.

Total Estimated Annual Other Costs Burden: $0.

Dated: September 20, 2012.
Michel Smyth,
Departmental Clearance Officer.

[FR Doc. 2012-28686 Filed 11-26-12; 8:45 a.m.]

BILLING CODE 4510-23-P